DEPARTMENT OF THE INTERIOR

Geological Survey

[GX21BD239AV0100; OMB Control Number 1028-NEW]

Agency Information Collection Activities; Submission to the Office of Management and Budget for Review and Approval; Information Collection Through Surveys and Interviews To Evaluate and Improve the Cooperative Research Units Program Mission, Functions, and Goals

AGENCY: Geological Survey, Interior.

ACTION: Notice of information collection; request for comment.

SUMMARY: In accordance with the Paperwork Reduction Act of 1995 (PRA), the U.S. Geological Survey (USGS) is proposing a new information collection.

DATES: Interested persons are invited to submit comments on or before October 3, 2022.

ADDRESSES: Written comments and recommendations for the proposed information collection should be sent within 30 days of publication of this notice to www.reginfo.gov/public/do/PRAMain. Find this particular information collection by selecting “Currently under 30-day Review—Open for Public Comments” or by using the search function. Written comments and recommendations can also be sent by mail to U.S. Geological Survey, Information Collections Officer, 12201 Sunrise Valley Drive MS 159, Reston, VA 20192, or by email to gs-info_collections@usgs.gov. Please reference OMB Control Number 1028-NEW in the subject line of your comments.

FOR FURTHER INFORMATION CONTACT: To request additional information about this Information Collection Request (ICR), contact Cynthia S. Loftin by email at cyndy_loftin@usgs.gov, or by telephone at (207) 881-3500. You may also view the ICR at http://www.reginfo.gov/public/do/PRAMain. Individuals in the United States who are deaf, deafblind, hard of hearing, or have a speech disability may dial 711 (TTY, TDD, or TeleBraille) to access telecommunications relay services. Individuals outside the United States should use the relay services offered within their country to make international calls to the point-of-contact in the United States. You may also view the ICR a http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on October 1, 2021 (86 FR 54468). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: The USGS Cooperative Fish and Wildlife Research Units Program originated in 1935 to fill a need for qualified wildlife and fisheries professionals and provide evidence-based graduate research to inform resource management. Currently, the program has 41 individual Units in 39 states and formalizes relationships among a state natural-resources management agency, a host university, the USGS, the USFWS, and the Wildlife Management Institute. The program's graduate education and research mission has remained largely unchanged through its tenure, yet the issues challenging fish and wildlife conservation have transformed. This raises questions about the program's support and sustainability into the future and how best to address cooperator needs.

Through focused surveys and interviews, this information collection will ask participants to evaluate their communication and relationships with individuals in the program. The data will be used to examine the structure, communication, and socio-technical connectivity using network analysis and agent-based modeling. This information collection aims to improve our understanding of the impact and effectiveness of the Cooperative Research Units Program and how well it meets its partners' needs.

Title of Collection: Information collection through surveys and interviews to improve the Cooperative Research Units Program mission, functions, and goals.

OMB Control Number: 1028-NEW.

Form Number: None.

Type of Review: New.

Respondents/Affected Public: Universities, state and tribal governments, and businesses which are direct (both formal and informal) Cooperators of the USGS Cooperative Fish and Wildlife Research Units Program.

Total Estimated Number of Annual Respondents: 840.

Total Estimated Number of Annual Responses: 840.

Estimated Completion Time per Response: 30 minutes.

Total Estimated Number of Annual Burden Hours: 420 hours.

Respondent's Obligation: Voluntary.

Frequency of Collection: One time.

Total Estimated Annual Nonhour Burden Cost: None.

An agency may not conduct or sponsor, and a person is not required to respond to, a collection of information unless it displays a currently valid OMB control number.

The authority for this action is the PRA (44 U.S.C. 3501 et seq.).

Cynthia Loftin,
Eastern Region Supervisor, Cooperative Research Units, U.S. Geological Survey.

[FR Doc. 2022-18894 Filed 8-31-22; 8:45 am]

BILLING CODE P